DEPARTMENT OF THE INTERIOR

National Park Service

Notice of Continuation of Concession Contract

AGENCY: National Park Service, Interior.

ACTION: Public Notice.

DATES: Effective Date: April 1, 2007.

FOR FURTHER INFORMATION CONTACT: Jo A. Pendry, Concession Program Manager, National Park Service, Washington, DC, 20240, Telephone 202/513-7156.

SUMMARY: Pursuant to the terms of the existing contract, public notice is hereby given that the National Park Service intends to continue the following expiring concession contract until October 1, 2007, or until such time as a new contract is effective, whichever occurs sooner.

SUPPLEMENTARY INFORMATION: The listed concession contract will expire by its terms on March 31, 2007. The National Park Service has determined that the proposed short-term continuation is necessary in order to avoid interruption of visitor services and has taken all reasonable and appropriate steps to consider alternatives to avoid such interruption.

Concession contract No. | Concessioner name | Park
STLI001-89 | Circle Line—Statue of Liberty Ferry, Inc. | Statue of Liberty National Monument/Ellis Island.

Dated: March 14, 2007.
Katherine H. Stevenson,
Acting Assistant Director, Business Services.

[FR Doc. 07-1370 Filed 3-20-07; 8:45 am]

BILLING CODE 4312-50-M